DEPARTMENT OF TRANSPORTATION

Federal Railroad Administration

Notice of Limitation on Claims for Judicial Review of Actions by FRA and Other Federal Agencies

AGENCY: Federal Railroad Administration (FRA), Department of Transportation (DOT).

ACTION: Notice.

SUMMARY: This notice announces final actions taken by the Federal Railroad Administration (FRA) and other agencies relating to the Long Bridge Project (Project) consistent with section (l) of Efficient Environmental Reviews for Project Decisionmaking.

DATES: By this notice, FRA is advising the public of final agency actions subject to 23 U.S.C. 139(l). A claim seeking judicial review of such actions for the railroad project described below will be barred unless the claim is filed on or before September 11, 2022. If a Federal law that authorizes judicial review of a claim provides a time period of less than two years for filing such claim, then that shorter time period still applies.

FOR FURTHER INFORMATION CONTACT: Pauline Munz, Attorney-Advisor, Federal Railroad Administration, Office of Chief Counsel, (202) 493-0558, pauline.munz@dot.gov, or David Valenstein, Senior Advisor—Major Projects & Credit Programs, Federal Railroad Administration, Office of Railroad Policy and Development, (202) 493-6368, david.valenstein@dot.gov.

SUPPLEMENTARY INFORMATION: Notice is hereby given that FRA and other Federal agencies have taken final agency actions by issuing certain licenses, permits and approvals relating to the Project. The actions on the Project, as well as the laws under which such actions were taken, are described in the Project documentation issued to comply with the National Environmental Policy Act (NEPA). Interested parties may visit the Project website at http://longbridgeproject.com/ or the FRA website at https://railroads.dot.gov/.

The Project involves construction of new two-track railroad bridges over the Potomac River and the George Washington Memorial Parkway (GWMP) between the existing railroad bridge and the Metrorail Bridge. The Project includes expansion of the Long Bridge Corridor, a 1.8-mile railroad corridor between RO Interlocking in Arlington, Virginia, and L'Enfant Interlocking near 10th Street SW in the District of Columbia, from two to four tracks and all necessary infrastructure improvements.

On September 3, 2020, FRA issued the Long Bridge Project Final Environmental Impact Statement/Record of Decision (Final EIS/ROD). In the Final EIS/ROD, FRA selected Action Alternative A, which would construct the Long Bridge Project as described above, and would retain the existing Long Bridge over the Potomac River and the railroad bridge over the GWMP. FRA determined that the Selected Alternative is the best option for the Project and that FRA's approval of the Selected Alternative is in the best interest of the public. FRA has further determined that all practicable measures to minimize environmental harm have been incorporated into Selected Alternative and that appropriate commitments are outlined in the FEIS/ROD.

This notice applies to all actions on the Project as of the issuance date of this notice. FRA's action, related actions taken by other agencies, and the laws under which such actions were taken are described further in the Final EIS/ROD. Such actions, include, but are not limited to, NEPA (42 U.S.C. 4321) and the Council on Environmental Quality Implementing Regulations for NEPA (40 CFR 1500-1508); Federal Railroad Administration Procedures for Considering Environmental Impacts (64 FR 28545); Efficient Environmental Reviews for Project Decisionmaking (23 U.S.C. 139); Section 4(f) of the United States Department of Transportation Act of 1966 (49 U.S.C. 303); Section 106 of the National Historic Preservation Act of 1966 (54 U.S.C. 306108); the Clean Air Act of 1970 (42 U.S.C. 7401); the Clean Water Act of 1972 (33 U.S.C. 1251); the Coastal Zone Management Act of 1972 (16 U.S.C. 1451); and the Endangered Species Act of 1973 (16 U.S.C. 1531 et seq.).

Issued in Washington, DC.
Jamie P. Rennert,
Director, Office of Program Delivery.

[FR Doc. 2020-20009 Filed 9-10-20; 8:45 am]

BILLING CODE 4910-06-P